DEPARTMENT OF HOMELAND SECURITY

Federal Emergency Management Agency

Agency Information Collection Activities: Proposed Collection; Comment Request

AGENCY: Federal Emergency Management Agency, DHS.

ACTION: Notice; 60-day notice and request for comments; revision of a currently approved collection, OMB No. 1660-0062.

SUMMARY: The Federal Emergency Management Agency (FEMA), as part of its continuing effort to reduce paperwork and respondent burden, invites the general public and other Federal agencies to take this opportunity to comment on a proposed revised information collection. In accordance with the Paperwork Reduction Act of 1995, this notice seeks comments concerning State Hazard Mitigation Plan requirements to support State administration of FEMA Mitigation grant programs.

SUPPLEMENTARY INFORMATION: On February 26, 2002, FEMA published an interim rule at 67 FR 884 implementing section 322 of the Robert T. Stafford Disaster Relief and Emergency Assistance Act (Stafford Act), 42 U.S.C. 5165, enacted under section 104 of the Disaster Mitigation Act of 2000, 42 U.S.C. 5121 note, to provide new and revitalized approaches to mitigation planning. The Stafford Act provides a framework for linking pre- and-post-disaster mitigation planning and initiatives with public and private interests to ensure an integrated, comprehensive approach to disaster loss reduction. Pursuant to 44 CFR part 201, the mitigation planning requirements require State, local and Indian tribal governments to identify the natural hazards that impact them, to identify actions and activities to reduce any losses from hazards, and to establish a coordinated process to implement the plan, taking advantage of a wide-range of resources.

Collection of Information

Title: State/Local/Tribal Hazard Mitigation Plans—Section 322 of the Disaster Mitigation Act of 2000.

Type of Information Collection: Revision of a currently approved collection.

OMB Number: 1660-0062.

Form Numbers: None.

Abstract: The purpose of State Hazard Mitigation Plan requirements is to support State administration of FEMA Mitigation grant programs, and contemplate a significant State commitment to mitigation activities, comprehensive State mitigation planning, and strong program management. Implementation of plans, pre-identified cost-effective mitigation measures will streamline the disaster recovery process. Mitigation plans are the demonstration of the goals, priorities to reduce risks from natural hazards.

Affected Public: State, local or tribal governments, and Individuals or households.

Estimated Total Annual Burden Hours: 768,320.

Annual Burden Hours
Project/activity (survey, form(s), focus group, etc.) | Number of respondents (A) | Frequency of responses (B) | Burden hours per response (C) | Annual responses (D) = (A × B) | Total annual burden hours (C × D)
New Plan Development (Local and Tribal Mitigation Included) | 56 | 5 | 2,080 | 280 | 582,400
Mitigation Plan Updates (Local and Tribal Included) | 56 | 10 | 320 | 560 | 179,200
Mitigation Plans Review by States (Local and Tribal Included) | 56 | 15 | 8 | 840 | 6,720
Total | 56 |  | 2,408 | 1,680 | 768,320

Estimated Cost: The total burden hour costs to respondents using the wage rate categories of Urban and Regional Planners for this information collection is estimated to be $21,282,464 annually. The total annual cost to the Federal Government for staff review and approval of State Hazard Mitigation Plans is estimated to be $226,447 annually.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before November 27, 2007.

ADDRESSES: Interested persons should submit written comments to Director, Records Management and Privacy, Office of Management Directorate, Federal Emergency Management Agency, 500 C Street, SW., Room 609, Washington, DC 20472.

FOR FURTHER INFORMATION CONTACT: Contact Cecelia Rosenberg, Section Chief, Mitigation Directorate, (202) 646-3321 for additional information. You may contact the Records Management Branch for copies of the proposed collection of information at facsimile number (202) 646-3347 or e-mail address: FEMA-Information-Collections@dhs.gov.

Dated: September 21, 2007.
John A. Sharetts-Sullivan,
Director, Records Management and Privacy, Office of Management Directorate, Federal Emergency Management Agency, Department of Homeland Security.

[FR Doc. E7-19228 Filed 9-27-07; 8:45 am]

BILLING CODE 9110-11-P